Title 3—

The President

Proclamation 8571 of October 1, 2010

National Arts and Humanities Month, 2010

By the President of the United States of America

A Proclamation

Throughout history, the arts and humanities have helped men and women around the globe grapple with the most challenging questions and come to know the most basic truths. In our increasingly interconnected world, the arts play an important role in both shaping the character that defines us and reminding us of our shared humanity. This month, we celebrate our Nation’s arts and humanities, and we recommit to ensuring all Americans can access and experience them.

Our strength as a Nation has always come from our ability to recognize ourselves in each other, and American artists, historians, and philosophers have helped enable us to find our common humanity. Through powerful scenes on pages, canvases, and stages, the arts have spurred our imaginations, lifted our hearts, and united us all without regard to belief or background.

The arts and humanities have also helped fuel our economy as well as our souls. Across our country, men and women in the non-profit and for-profit arts industries bring arts and cultural activities to our communities, contributing tens of billions of dollars to our economy each year. Today, arts workers are revitalizing neighborhoods, attracting new visitors, and fostering growth in places that have gone too long without it.

As we work to bring the power of the arts and humanities to all Americans, my Administration remains committed to providing our children with an education that inspires as it informs. Exposing our students to disciplines in music, dance, drama, design, writing, and fine art is an important part of that mission. To promote arts education and pay tribute to America’s vibrant culture, First Lady Michelle Obama and I have been proud to host a White House Music Series, Dance Series, and Poetry Jam. We have been honored to bring students, workshops, and performers to “the People’s House;” to highlight jazz, country, Latin, and classical music; and to invite Americans to listen to the music of the civil rights movement, hip-hop, and Broadway.

By supporting the fields that feed our imagination, strengthen our children’s education, and contribute to our economy, our country will remain a center of creativity and innovation, and our society will stand as one where dreams can be realized. As we reflect on the contributions of America’s artists, we look forward to hearing their tales still untold, their perspectives still unexplored, and their songs still unwritten. May they continue to shed light on trials and triumphs of the human spirit, and may their work help ensure that our children’s horizons are ever brighter.

NOW, THEREFORE, I, BARACK OBAMA, President of the United States of America, by virtue of the authority vested in me by the Constitution and the laws of the United States, do hereby proclaim October 2010 as National Arts and Humanities Month. I call upon the people of the United States to join together in observing this month with appropriate ceremonies, activities, and programs to celebrate the arts and the humanities in America.

IN WITNESS WHEREOF, I have hereunto set my hand this first day of October, in the year of our Lord two thousand ten, and of the Independence of the United States of America the two hundred and thirty-fifth.

[FR Doc. 2010-25571

Filed 10-7-10; 8:45 am]

Billing code 3195-W1-P